DEPARTMENT OF LABOR

Employment and Training Administration

[TA-W-58,148]

Ranco North America, a Division of Invensys, Brownsville, TX; Notice of Termination of Investigation

Pursuant to section 221 of the Trade Act of 1974, as amended, an investigation was initiated on October 17, 2005 in response to a petition filed by a company official on behalf of workers of Ranco North America, a division of Invensys, Brownsville, Texas.

The worker group is covered by a certification, (TA-W-53,125) which expired on October 23, 2005. The plant closed and all workers were separated in June 2005. Consequently, further investigation in this case would serve no purpose, and the investigation has been terminated.

Signed at Washington, DC, this 23rd day of November 2005.
Linda G. Poole,
Certifying Officer, Division of Trade Adjustment Assistance.

[FR Doc. E5-6876 Filed 12-5-05; 8:45 am]

BILLING CODE 4510-30-P